DEPARTMENT OF COMMERCE

Census Bureau

Proposed Information Collection; Comment Request; Survey of Income and Program Participation (SIPP) 2012 Re-engineered SIPP—Field Test

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 20, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Patrick J. Benton, Census Bureau, Room HQ-6H045, Washington, DC 20233-8400, (301) 763-4618.

SUPPLEMENTARY INFORMATION:

I. Abstract

The Census Bureau plans to conduct a field test for the Re-engineered SIPP (SIPP-EHC) from January to March of 2012. The SIPP is a household-based survey designed as a continuous series of national panels. The SIPP represents a source of information for a wide variety of topics and allows information for separate topics to be integrated to form a single, unified database so that the interaction between tax, transfer, and other government and private policies can be examined. Government domestic policy formulators depend heavily upon the SIPP information concerning the distribution of income received directly as money or indirectly as in-kind benefits and the effect of tax and transfer programs on this distribution. They also need improved and expanded data on the income and general economic and financial situation of the U.S. population, which the SIPP has provided on a continuing basis since 1983. The SIPP has measured levels of economic well-being and permitted changes in these levels to be measured over time.

The SIPP-EHC is molded around a central “core” of labor force and income questions that are supplemented with questions designed to address specific needs in complementary subject areas. The 2012 SIPP-EHC again uses an Event History Calendar (EHC) which facilitates the collection of dates of events and spells of coverage, as did the 2011 SIPP-EHC.

The content of the 2012 SIPP-EHC will match that of the 2011 SIPP-EHC very closely. The SIPP-EHC design does not contain free-standing topical modules. As in the 2010 and 2011 SIPP-EHC interviews, a portion of traditional SIPP topical module content is integrated into the 2012 SIPP-EHC interview. Examples of this content include medical expenses, child care, retirement and pension plan coverage, marital history, adult and child well-being, and others. The EHC should assist respondent's ability to recall events accurately over the longer reference period and provide increased data quality and inter-topic consistency for dates reported by respondents.

The 2012 SIPP-EHC field test will revisit survey respondents who were first interviewed in the 2011 SIPP-EHC field test. The 2012 SIPP-EHC will interview respondents using the previous calendar year 2011 as the reference period. The 2012 SIPP-EHC is a critical evaluation in the transition to annual interviewing for the SIPP program. The 2012 SIPP-EHC will be the first test of the revised interviewing method structure that will follow adults (15 years and older) who move from the prior wave household, and will be the first revised interviewing method test incorporating dependent data from the prior wave in the EHC interview of a current wave. Dependent data, primarily information collected in the EHC from the end of the reference year to the interview month in the prior wave, is a crucial component added to the 2012 SIPP-EHC to reduce the impact of seam bias for longitudinal uses of the monthly data from SIPP-EHC as analyses of monthly data span calendar years. The 2012 SIPP-EHC will be the only opportunity to evaluate the ability to follow movers, implement dependent data use, and produce an initial evaluation of attrition related to the new instrument design and interview interval. Although the sample is limited to high-poverty strata in 20 states and cannot represent the characteristics of the test if implemented in a full nationally representative sample, a comparison can be effectively made to the same geographies and characteristics for the same period in the 2008 panel of the production SIPP. Additionally, the functionality of all of the interrelated systems to locate and re-interview respondents after a year can be tested.

Approximately 2,600 households (based on response and coverage estimates derived from the 2010 SIPP-EHC field work) will be interviewed for the 2012 SIPP-EHC field test. We estimate that each household contains 2.1 people aged 15 and above, yielding approximately 5,460 person-level interviews in this field test. Interviews take 60 minutes per adult on average. The total annual burden for 2012 SIPP-EHC field test interviews will be 5,460 hours in FY 2012.

II. Method of Collection

The 2012 SIPP-EHC field test instrument will consist of one household interview which will reference the calendar year 2011. The interview is conducted in person with all household members 15 years old or over using regular proxy-respondent rules.

III. Data

OMB Control Number: 0607-0957.

Form Number: SIPP/CAPI Automated Instrument.

Type of Review: Regular.

Affected Public: Individuals or Households.

Estimated Number of Respondents: 5,460 people.

Estimated Time per Response: 60 minutes per person on average.

Estimated Total Annual Burden Hours: 5,460.

Estimated Total Annual Cost: The only cost to respondents is their time.

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 18, 2011.
Glenna Mickelson,
Management Analyst, Office of the Chief Information Officer.

[FR Doc. 2011-9732 Filed 4-20-11; 8:45 am]

BILLING CODE 3511-07-P